DEPARTMENT OF ENERGY

Notice of Availability of Solicitation

AGENCY: Albuquerque Operations Office, Department of Energy.

ACTION: Notice of availability of solicitation-research and development to increase engine efficiency, reduce emissions, and improvement in systems efficiency for off-highway vehicles, including construction, agriculture, and mining equipment.

SUMMARY: The U.S. Department of Energy (DOE), Albuquerque Operations Office (AL), is seeking applications for research and development to increase engine efficiency, reduce emissions, and improvement in systems efficiency for off-highway vehicles, including construction, agriculture, and mining equipment. Through this solicitation, DOE seeks to improve the energy efficiency and emissions performance of Class 1-8 trucks and off-highway vehicles. A DOE technical panel will perform a scientific and engineering evaluation of each responsive application to determine the merit of the approach. DOE anticipates issuing one or more financial assistance instruments from this solicitation. Funding in the amount of $2,500,000 and $5,000,000 is anticipated to be available. Cost sharing of 50% by the applicant is required.

DATES: Applications are to be received no later than 3 p.m. local prevailing time on August 15, 2001. Any application received after the due date will not be evaluated.

FOR FURTHER INFORMATION CONTACT: Erwin E. Fragua, Contract Specialist, DOE/AL, at (505) 845-6442 or by e-mail at efragua@doeal.gov.

SUPPLEMENTARY INFORMATION: The solicitation will be available on the internet on or about July 20, 2001 at the following web site: http://www.doeal.gov/cpd/default.htm. Applications must be prepared and submitted in accordance with the instructions and forms contained in the solicitation. For profit and not-for-profit organizations, state and local governments, Indian tribes, and institutions of higher learning are eligible for awards under this solicitation. Collaboration between industry, industry organizations, and universities are encouraged.

Issued in Albuquerque, New Mexico, July 16, 2001.
Martha L. Youngblood,
Contracting Officer, Complex Support Branch, Contracts and Procurement Division.

[FR Doc. 01-18428 Filed 7-24-01; 8:45 am]

BILLING CODE 6450-01-M